SMALL BUSINESS ADMINISTRATION

[Disaster Declaration #15314 and #15315; Georgia Disaster Number GA-00100]

Presidential Declaration Amendment of a Major Disaster for the State of Georgia

AGENCY: U.S. Small Business Administration.

ACTION: Amendment 2.

SUMMARY: This is an amendment of the Presidential declaration of a major disaster for the State of Georgia

(FEMA-4338-DR), dated 09/15/2017.

Incident: Hurricane Irma.

Incident Period: 09/07/2017 and continuing.

DATES: Issued on 09/26/2017.

Physical Loan Application Deadline Date: 11/14/2017.

Economic Injury (EIDL) Loan Application Deadline Date: 06/15/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the State of Georgia, dated 09/15/2017, is hereby amended to include the following areas as adversely affected by the disaster:

Primary Counties (Physical Damage and Economic Injury Loans): Charlton, Coffee

Contiguous Counties (Economic Injury Loans Only):

Georgia: Atkinson, Bacon, Ben Hill, Berrien, Irwin, Jeff Davis, Telfair, Ware

Florida: Baker

All other information in the original declaration remains unchanged.

(Catalog of Federal Domestic Assistance Number 59008)

James E. Rivera,
Associate Administrator for Disaster Assistance.

[FR Doc. 2017-21453 Filed 10-4-17; 8:45 am]

BILLING CODE 8025-01-P